ENVIRONMENTAL PROTECTION AGENCY

40 CFR Part 180

[EPA-HQ-OPP-2020-0053; FRL-9410-08-OCSPP]

Receipt of a Pesticide Petition Filed for Residues of Pesticide Chemicals in or on Various Commodities November 2022

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before February 2, 2023.

ADDRESSES: Submit your comments, identified by docket identification (ID) number EPA-HQ-OPP-2020-0053, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Biopesticides and Pollution Prevention Division (BPPD) (7511M), main telephone number: (202) 566-1400, email address: BPPDFRNotices@epa.gov; or Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at https://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Notice of Filing—Amended Tolerance Exemptions for Non-Inerts (Except PIPS)

PP 2E8988. EPA-HQ-OPP-2022-0940. The Interregional Research Project Number 4 (IR-4), North Carolina State University, 1730 Varsity Drive, Suite 210, Venture IV, Raleigh, NC 27606, on behalf of Arizona Cotton Research and Protection Council, 3721 East Wier Avenue, Phoenix, Arizona 85040-2933, requests to amend an exemption from the requirement of a tolerance in 40 CFR 180.1206 for residues of the fungicide Aspergillus flavus strain AF36 in or on all food and feed commodities of cotton, corn, pistachio, almond, and fig. The petitioner believes no analytical method is needed because it is expected that, when used as proposed, Aspergillus flavus strain AF36 will not result in residues that are of toxicological concern. Contact: BPPD.

B. Amended Tolerances for Non-Inerts

1. PP 2E8982. EPA-HQ-OPP-2022-0300. IR-4, North Carolina State University, 1730 Varsity Drive, Venture IV, Suite 210, Raleigh, NC 27606, requests to remove the tolerances in 40 CFR 180.572 for residues of bifenazate in or on bean, dry seed; cotton, undelinted seed; fruit, stone, group 12 except plum; grape; longan; lychee; nut, tree, group 14; okra; pea and bean, succulent shelled, subgroup 6B; pistachio; plum; soybean, succulent shelled; spanish lime; strawberry; and vegetable, legume, edible-podded, subgroup 6A. Adequate analytical methods for determining bifenazate in/on appropriate raw agricultural commodities and processed commodities have been developed and validated. Contact: RD.

2. PP 2E8994. EPA-HQ-OPP-2022-0384. IR-4, North Carolina State University, 1730 Varsity Drive, Venture IV, Suite 210, Raleigh, NC 27606, requests to remove the tolerances in 40 CFR 180.635 for residues of spinetoram in or on asparagus, and spice, subgroup 19B, except black pepper. Adequate analytical methods for determining spinetoram in/on appropriate raw agricultural commodities and processed commodities have been developed and validated. Contact: RD.

C. Amended Tolerances for Non-Inerts

1. PP 2E8982. EPA-HQ-OPP-2022-0300. IR-4, North Carolina State University, 1730 Varsity Drive, Venture IV, Suite 210, Raleigh, NC 27606, requests to remove the tolerances in 40 CFR 180.572 for residues of bifenazate in or on bean, dry seed; cotton, undelinted seed; fruit, stone, group 12 except plum; grape; longan; lychee; nut, tree, group 14; okra; pea and bean, succulent shelled, subgroup 6B; pistachio; plum; soybean, succulent shelled; spanish lime; strawberry; and vegetable, legume, edible-podded, subgroup 6A. Adequate analytical methods for determining bifenazate in/on appropriate raw agricultural commodities and processed commodities have been developed and validated. Contact: RD.

2. PP 2E8993. EPA-HQ-OPP-2022-0386. IR-4, North Carolina State University, 1730 Varsity Drive, Venture IV, Suite 210, Raleigh, NC 27606, requests to remove the tolerances in 40 CFR 180.495 for residues of spinosad in or on asparagus, and spice, subgroup 19B, except black pepper. Adequate analytical methods for determining spinosad in/on appropriate raw agricultural commodities and processed commodities have been developed and validated. Contact: RD.

3. PP 2E8994. EPA-HQ-OPP-2022-0384. IR-4, North Carolina State University, 1730 Varsity Drive, Venture IV, Suite 210, Raleigh, NC 27606, requests to remove the tolerances in 40 CFR 180.635 for residues of spinetoram in or on asparagus, and spice, subgroup 19B, except black pepper. Adequate analytical methods for determining spinetoram in/on appropriate raw agricultural commodities and processed commodities have been developed and validated. Contact: RD.

4. PP 2E9000. EPA-HQ-OPP-2022-0832. IR-4, North Carolina State University, 1730 Varsity Drive, Venture IV, Suite 210, Raleigh, NC 27606, requests to remove the tolerances in 40 CFR 180.613 for residues of flonicamid in or on fruit, stone group 12-12, at 0.6 parts per million (ppm), pea and bean, dried shelled, except soybean, subgroup 6C at 3.0 ppm, pea and bean, succulent shelled, subgroup 6B at 7.0 ppm, and vegetable, legume, edible podded, subgroup 6A at 4.0 ppm. Adequate analytical methods for determining flonicamid in/on appropriate raw agricultural commodities and processed commodities have been developed and validated. Contact: RD.

D. Notice of Filing—New Tolerance Exemptions for Non-Inerts (Except PIPS)

1. PP 2F9025. EPA-HQ-OPP-2022-0914. Oro-Agri Inc., 2788 S Maple Ave., Fresno, CA 93725 requests to establish an exemption from the requirement of a tolerance in 40 CFR part 180 for residues of the fungicide, insecticide and acaricide sweet orange oil in or on all food commodities. The analytical method, gas chromatography, is available to EPA for the detection and measurement of the pesticide residues. Contact: BPPD.

2. PP 2G9024. EPA-HQ-OPP-2022-0932. GreenLightBiosciences, Inc., 200 Boston Ave., Suite 1000, Medford, MA 02155, requests to establish an exemption from the requirement of a tolerance in 40 CFR part 180 for residues of the double-stranded RNA insecticide Ledprona (CAS No. 2433753-68-3) in or on all agricultural commodities and food products. The petitioner believes no analytical method is needed because based on the low toxicity demonstrated in the available toxicological data and given that a temporary exemption from the requirement for establishing a tolerance for residues is being proposed. Contact: BPPD.

E. New Tolerance Exemptions for Inerts (Except PIPS)

1. PP IN-11624. EPA-HQ-OPP-2022-0942. Technology Sciences Group Inc., 1150 18th Street NW, Suite 1000, Washington, DC 20036, on behalf of Veto-Pharma SAS12-14 Rue de la Croix-Martre 91120 Palaiseau, France, requests to establish an exemption from the requirement of a tolerance in 40 CFR 180.910 for residues of erucamide (CAS Reg. No.112-84-5) as a lubricant inert ingredient limited to 0.3% by weight in pesticide formulations when applied on the raw agricultural commodities honey and honeycomb. The petitioner believes no analytical method is needed because it is not required for an exemption from the requirement of a tolerance. Contact: RD.

2. PP IN-11711. EPA-HQ-OPP-2022-0921. Delta Analytical Corporation, 12510 Prosperity Drive, Suite 160, Silver Spring, MD 20904 on behalf of Borchers Americas, Inc., 811 Sharon Drive, Westlake, OH 44145 requests to establish an exemption from the requirement of a tolerance for residues for Oxirane, 2-methyl-, polymer with oxirane, ether with 1,2,3-propanetriol (3:1) (CAS Reg. No. 9082-00-2) with a minimum number average molecular weight (in amu) of 6,175 when used as a pesticide inert ingredient (wetting agent) in pesticide formulations under 40 CFR 180.960. The petitioner believes no analytical method is needed because it is not required for an exemption from the requirement of a tolerance. Contact: RD.

3. PP IN-11727. EPA-HQ-OPP-2022-0931. Nouryon Chemicals LLC, c/o Keller and Heckman LLP, 1001 G Street NW, Suite 500 West, Washington, DC 20001, requests to establish an exemption from the requirement of a tolerance for residues of 2-propenoic acid, methyl-, polymer with butyl 2-propenoate and methyl 2-methyl-2-propenoate compd. with 2-amino-2-methyl-1-propanol (CAS Reg. No. 1203962-19-9), with a minimum number average molecular weight of 22,700 daltons, when used as an inert ingredient in pesticide formulations under 40 CFR 180.960. The petitioner believes no analytical method is needed because it is not required for an exemption from the requirement of a tolerance. Contact: RD.

4. PP IN-11729. EPA-HQ-OPP-2022-0935. Nouryon Chemicals LLC, c/o Keller and Heckman LLP, 1001 G Street NW, Suite 500 West, Washington, DC 20001, requests to establish an exemption from the requirement of a tolerance for residues of propanoic acid, 3-hydroxy-2- (hydroxymethyl)-2-methyl-, polymer with 2-amino-2-methyl-1-1propanol, a-hydro-ω-hydroxypoly[oxy(methyl-1,2-ethanediyl)], 5-isocyanato-1-(isocyanatomethyl)-1,3,3-trimethylcyclohexane and methyloxirane polymer with oxirane ether with 4,4′-(1-methylethylidene)bis[phenol] (2:1), polyethylene-polypropylene glycol 2-aminopropyl Me ether-blocked, compds. with 2-amino-2-methyl-1-propanol (CAS Reg. No. 515152-49-5), with a minimum number average molecular weight of 6,800 daltons, when used as an inert ingredient in pesticide formulations under 40 CFR 180.960. The petitioner believes no analytical method is needed because it is not required for an exemption from the requirement of a tolerance. Contact: RD.

F. New Tolerance Exemptions for PIPS

PP 2F9010. EPA-HQ-OPP-2022-0939. Pioneer HiBred International, Inc., 7100 NW 62 Avenue P.O. Box 1000, Johnston, IA 50131-1000, requests to establish an exemption from the requirement of a tolerance in 40 CFR part 174 for residues of the plant-incorporated protectant (PIP) ingredient ophioglossum pendulum IPD079Ea protein in or on corn. The analytical method A validated ELISA was used to determine the concentration of IPD079Ea protein in maize tissues, including grain and forage is available to EPA for the detection and measurement of the pesticide residues. Contact: BPPD.

G. New Tolerances for Non-Inerts

1. PP 1E8966. EPA-HQ-OPP-2022-0069. IR-4, North Carolina State University, 1730 Varsity Drive, Venture IV, Suite 210, Raleigh, NC 27606, requests, pursuant to section 408(d) of the FFDCA, 21 U.S.C. 346a(d), to amend 40 CFR part 180 by establishing a tolerance for residues of Trinexapac-ethyl in or on the raw agricultural commodity clover, forage at 8 ppm and clover, hay at 15 ppm. As a result of feeding clover that has been treated with trinexapac-ethyl to livestock, the following tolerances are proposed in livestock commodities: Cattle, fat and cattle, meat at 0.03 ppm; cattle, meat byproducts at 0.1 ppm; egg at 0.01 ppm; goat, fat and goat, meat at 0.03 ppm; goat, meat byproducts at 0.1 ppm; hog, meat byproducts at 0.1 ppm; milk at 0.01 ppm; horse, meat at 0.03 ppm; poultry, fat and poultry, meat at 0.01 ppm; poultry, meat byproducts at 0.1 ppm; sheep, fat and sheep, meat at 0.03 ppm; and sheep, meat byproducts at 0.1 ppm. Adequate analytical methods for determining trinexapac-ethyl in/on appropriate raw agricultural commodities and processed commodities have been developed and validated. Contact: RD.

2. PP 2E8982. EPA-HQ-OPP-2022-0300. IR-4, North Carolina State University, 1730 Varsity Drive, Venture IV, Suite 210, Raleigh, NC 27606, requests, pursuant to section 408(d) of the FFDCA, 21 U.S.C. 346a(d), to amend 40 CFR part 180 by establishing tolerances for residues of bifenazate: Hydrazine carboxylic acid, 2-(4-methoxy-1,1′-biphenyl-3-yl)1-methylethyl ester in or on the raw agricultural commodities of banana at 3 ppm; bushberry subgroup 13-07B at 3 ppm; cherry subgroup 12-12A at 2.5 ppm; cottonseed subgroup 20C at 0.75 ppm; nut, tree, group 14-12 at 0.2 ppm; peach subgroup 12-12B at 2.5 ppm; plantain at 3 ppm, plum subgroup 12-12C at 0.2 ppm; tropical and subtropical, small fruit, inedible peel, subgroup 24A at 5 ppm; edible podded bean subgroup 6-22A at 6 ppm, edible podded pea subgroup 6-22B at 6 ppm; succulent shelled bean subgroup 6-22C at 0.7 ppm; succulent shelled pea subgroup 6-22D at 0.7 ppm; and pulses, dried shelled bean, except soybean, subgroup 6-22E at 0.6 ppm. Adequate analytical methods for determining bifenazate in/on appropriate raw agricultural commodities and processed commodities have been developed and validated. Contact: RD.

3. PP 2E8993. EPA-HQ-OPP-2022-0386. IR-4, North Carolina State University, 1730 Varsity Drive, Venture IV, Suite 210, Raleigh, NC 27606, requests, pursuant to section 408(d) of the FFDCA, 21 U.S.C. 346a(d), to amend 40 CFR part 180 by establishing tolerances for residues of spinosad in or on the raw agricultural commodities stalk and stem vegetable subgroup 22A at 0.4 ppm and spice group 26 at 1.7 ppm. Adequate analytical methods for determining spinosad in/on appropriate raw agricultural commodities and processed commodities have been developed and validated. Contact: RD.

4. PP 2E8994. EPA-HQ-OPP-2022-0384. IR-4, North Carolina State University, 1730 Varsity Drive, Venture IV, Suite 210, Raleigh, NC 27606, requests, pursuant to section 408(d) of the FFDCA, 21 U.S.C. 346a(d), to amend 40 CFR part 180 by establishing tolerances for residues of spinetoram in or on the raw agricultural commodities of stalk and stem vegetable subgroup 22A at 0.4 ppm and spice group 26 at 1.7 ppm. Adequate analytical methods for determining spinetoram in/on appropriate raw agricultural commodities and processed commodities have been developed and validated. Contact: RD.

5. PP 1F8976. EPA-HQ-OPP-2022-0455. UPL Delaware Inc., and UPL NA Inc., 630 Freedom Business Center, Suite 402, King of Prussia, PA 19406, requests to establish a tolerance in 40 CFR part 180 for residues of the fungicide carboxin in or on crop subgroup 6-22F: Pulses, dried shelled pea at .2 ppm; pea, dry, forage at 0.4 ppm; and pea, dry, hay at 2 ppm. The GLC/MSD method and the Colorimetric Method is used to measure and evaluate the chemical Carboxin. Contact: RD.

6. PP 2E9000. EPA-HQ-OPP-2022-0832. IR-4, North Carolina State University, 1730 Varsity Drive, Venture IV, Suite 210, Raleigh, NC 27606, requests, pursuant to section 408(d) of the FFDCA, 21 U.S.C. 346a(d), to amend 40 CFR part 180 by establishing tolerances for residues of the insecticide flonicamid and its metabolites and degradates determined by measuring flonicamid [N-(cyanomethyl)-4-(trifluoromethyl)- 3-pyridinecarboxamide] and its metabolites TFNA (4-trifluoromethylnicotinic acid), TFNA-AM (4-trifluoromethyl-nicotinamide), and TFNG [N-(4-trifluoromethylnicotinoyl)glycine], calculated as the stoichiometric equivalent of flonicamid in or on the raw agricultural commodities: Bushberry crop subgroup 13-07B at 1.5 ppm; caneberry crop subgroup 13-07A at 3 ppm; cherry subgroup 12-12A at 0.6 ppm; corn, sweet, kernel plus cob with husks removed at 0.4 ppm; corn, sweet, forage at 9 ppm; corn, sweet, stover at 20 ppm; peach crop subgroup 12-12B at 1.5 ppm; plum subgroup 12-12C at 0.6 ppm; pomegranate at 0.5 ppm; prickly pear, fruit at 2 ppm; prickly pear, pads at 3 ppm; edible podded bean subgroup 6-22A and edible podded pea subgroup 6-22B at 4 ppm; succulent shelled bean subgroup 6-22C; and succulent shelled pea subgroup 6-22D at 7 ppm; and pulses, dried shelled bean (except soybean) subgroup 6-22E and pulses, dried shelled pea subgroup 6-22F at 3 ppm. Adequate analytical methods for determining flonicamid in/on appropriate raw agricultural commodities and processed commodities have been developed and validated. Contact: RD.

7. PP 2F9026. EPA-HQ-OPP-2022-0871. Bayer Crop Science LP, 800 N Lindbergh Blvd., St. Louis, MO 63167, requests to establish a tolerance in 40 CFR part 180 for residues of the insecticide, spidoxamat, in or on the raw agricultural commodities of citrus fruit (CG 10-10) at 0.8 ppm, pome fruit (CG 11-10) at 0.3 ppm, stone fruit, except apricot (CG 12-12, except Apricot) at 1.0 ppm, apricot at 6.0 ppm, small fruit vine climbing subgroup, except fuzzy kiwifruit (CG 13-07F) at 0.9 ppm, tree nuts, except pistachio (CG 14-12, except pistachio) at 0.02 ppm, and pistachio at 0.8 ppm. Solvent extraction, filtration followed by the addition of isotopically label-internal standards and quantitation by high performance liquid chromatography-electropspray ionization/tandem mass spectrometry (HPLS/MS/MS) are used to measure and evaluate the chemical Spidoxamat. Contact: RD.

Authority: 21 U.S.C. 346a.

Dated: December 19, 2022.
Delores Barber,
Director, Information Technology and Resources Management Division, Office of Program Support.

[FR Doc. 2022-28524 Filed 12-30-22; 8:45 am]

BILLING CODE 6560-50-P